DEPARTMENT OF HEALTH AND HUMAN SERVICES

National Institutes of Health

Prospective Grant of Exclusive License: Electron Paramagnetic Resonance Devices and Systems for Oximetry

AGENCY: National Institutes of Health, Public Health Service, HHS.

ACTION: Notice.

SUMMARY: This is notice, in accordance with 35 U.S.C. 209(c)(1) and 37 CFR 404.7(a)(1)(i), that the National Institutes of Health (NIH), Department of Health and Human Services (HHS), is contemplating the grant of an exclusive worldwide license to practice the invention embodied in: HHS Ref. No. E-175-1995/0 and/1;

Patent/Application No. | Territory | Filing date | Status
5,678,548 | US | July 20, 1995 | Issued.
5,828,216 | US | August 19, 1996 | Issued.
5,865,146 | US | July 29, 1997 | Issued.
PCT/US1996/11879 | WIPO | July 18, 1996 | Expired.

and HHS Ref. No. E-250-2008/0;

Patent/Application No. | Territory | Filing date | Status
61/200,579 | US | November 29, 2008 | Expired.
PCT/US2009/65956 | WIPO | November 25, 2009 | Expired.
13/131,165 | US | May 25, 2011 | Pending.
09829806.0 | EP | November 25, 2009 | Pending.

to Resonance Research, Inc., a company incorporated under the laws of the Commonwealth of Massachusetts having its headquarters in Billerica, Massachusetts. The United States of America is the assignee of the rights of the above inventions. The contemplated exclusive license may be granted in a field of use limited to electron paramagnetic resonance devices and systems for oximetry.

DATES: Only written comments and/or applications for a license received by the NIH Office of Technology Transfer on or before November 15, 2011 will be considered.

ADDRESSES: Requests for a copy of the patent application, inquiries, comments and other materials relating to the contemplated license should be directed to: Michael A. Shmilovich, Esq., Office of Technology Transfer, National Institutes of Health, 6011 Executive Boulevard, Suite 325, Rockville, MD 20852-3804; Telephone: (301) 435-5019; Facsimile: (301) 402-0220; Email: shmilovm@mail.nih.gov. A signed confidentiality nondisclosure agreement will be required to receive copies of any patent applications that have not been published by the United States Patent and Trademark Office or the World Intellectual Property Organization.

SUPPLEMENTARY INFORMATION: The patents and patent applications intended for licensure disclose or cover devices and systems for in vivo quantitative oximetry using low frequency time-domain EPR imaging in the frequency range of 250-300 MHz. The systems developed use a time-domain spectroscopic EPR imaging approach that is a unique combination of: (1) multi-gradient Single Point Imaging involving global phase encoding and (2) conventional 90°-τ-180° Spin-Echo pulse sequence well-known in MRI where the images are obtained by the filtered back-projection after FT of the echoes collected under frequency-encoding gradients. The combination approach of single point imaging with the spin-echo signal detection procedure to take advantage of T2 (and not T2*) dependent contrast and the enhanced spatial resolution associated with the constant-time pure phase-encoding approach. This approach has become feasible because of the availability of non-toxic water-soluble trityl and deuterated trityl based spin probes which have reasonable T1 and T2 in the range 5-10 μs.

The prospective exclusive license will be royalty bearing and will comply with the terms and conditions of 35 U.S.C. 209 and 37 CFR 404.7. The prospective exclusive license may be granted unless, within fifteen (15) days from the date of this published notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: October 25, 2011.
Richard U. Rodriguez,
Director, Division of Technology Development and Transfer, Office of Technology Transfer, National Institutes of Health.

[FR Doc. 2011-28131 Filed 10-28-11; 8:45 am]

BILLING CODE 4140-01-P